DEPARTMENT OF STATE

22 CFR Part 22

[Public Notice: 11954]

RIN 1400-AF33

Schedule of Fees for Consular Services—Nonimmigrant and Special Visa Fees

AGENCY: Department of State.

ACTION: Final rule.

SUMMARY: This rule adopts as final adjustments to the Schedule of Fees for Consular Services (Schedule of Fees) for several nonimmigrant visa (NIV) application processing fees and the Border Crossing Card (BCC) for Mexican citizens age 15 and over. These adjustments are based on the findings of the most recently approved update to the Cost of Service Model (CoSM) and incorporate revised projections for nonimmigrant visa demand. This rule also addresses public comments received by the Department on the originally proposed fee recommendations found in the notice of proposed rulemaking (NPRM).

DATES: This final rule is effective on May 30, 2023.

FOR FURTHER INFORMATION CONTACT: Johanna Cruz, Management Analyst, Office of the Comptroller, Bureau of Consular Affairs, Department of State; phone: 202-485-8915; email: fees@state.gov.

SUPPLEMENTARY INFORMATION:

Background

This rule makes changes to the Schedule of Fees, found at 22 CFR 22.1. The Department generally sets and collects fees for consular services based on the concept of full cost recovery to the U.S. Government. The Department's CoSM uses an Activity-Based Costing (ABC) methodology to calculate annually the direct and indirect costs to the U.S. Government associated with each consular good and service the Department provides. The CoSM provides a comprehensive and detailed look at all consular services as well as all services that the Department performs for other agencies in connection with its consular operations. Fees are based on these cost estimates and the Department aims to update the Schedule of Fees biennially unless a significant change in costs warrants an immediate recommendation to amend the Schedule.

The most recently approved update to the CoSM indicated that fee increases were needed to fully recover the costs of providing several categories of NIV services. As a result, the Department published an NPRM in the Federal Register on December 29, 2021 (86 FR 74018), for a 60-day public comment period that ended on February 28, 2022. The NPRM proposed the following increases:

• The application processing fee for non-petition-based nonimmigrant visas (except E category), from $160 to $245;

• The application processing fee for H, L, O, P, Q, and R category nonimmigrant visas, from $190 to $310;

• The application processing fee for E category nonimmigrant visas, from $205 to $485;

• The processing fee for BCCs for Mexican citizens age 15 and over from $160 to $245: and

• The fee for waiver of the two-year residency requirement for exchange visitors, from $120 to $510.

As discussed in more depth in the NPRM, the unit costs that inform the recommended fees for each NIV service were calculated by taking the total cost of each service and dividing by the 10-year average number of receipts (i.e., demand) for that service.

The fee increases that will be implemented as a result of this final rule are smaller than those proposed in the NPRM due to revised projections for fiscal year (FY) 2022-2024 demand. The CoSM uses historical workloads as well as projected future workloads to calculate demand for each service. Projecting future demand is extremely difficult because travel for both U.S. citizens and foreign nationals can change quickly and dramatically, as demonstrated by the COVID-19 pandemic. Therefore, the current model update applied a 10-year average for workload volumes for NIVs, using historic workload actuals from FYs 2015-2019 and projected workload volumes for FYs 2020-2024. Using a 10-year average helped minimize the impact of demand volatility on unit cost calculations. Recognizing that actual demand will always vary, this practical approach helped to stabilize fees at an amount sufficient to recover costs with only a modest increase to the consumer. See 86 FR 74018, 74020-21.

The fee increases proposed in the NPRM were based on a 10-year average of 7.7 million NIVs of all classes per year. After the NPRM was issued, however, it became apparent that demand for NIVs was rebounding significantly faster than previously anticipated and that actual demand would exceed the projected volume in the NPRM. The Department therefore decided to recalculate demand before moving forward with the final rule to ensure that it did not implement fees in excess of its actual costs. In its revised analysis, the Department included historic actual workload amounts for FY2015-2021 (rather than FY2015-2019 as in the original recommendations) and revised projected workload amounts for FY2022-2024. As with the original calculations, the Department divided the total actual and projected demand by 10, which resulted in a revised 10-year average of 9.5 million NIVs of all classes per year.

Because actual costs and level of effort for most categories of NIVs have been relatively stable over this period, the significant increase in average demand generates a corresponding decrease in the unit costs of providing these services. As a result, the Department will implement smaller fee increases than originally proposed for all categories of NIVs.

The Department is also postponing the fee increase for the exchange visitor waiver of two-year residency requirement (“J-Waiver”) fee. Unlike machine-readable visa (MRV) fees, which must be set at the cost of providing nonimmigrant visa application processing and border crossing card processing services, see 8 U.S.C. 1713(b); 8 U.S.C. 1351 (note), the Department has discretion to take factors other than cost into account when setting the J-Waiver fee. See 31 U.S.C. 9701 (permitting the Government to consider “other relevant facts” in addition to costs when setting fees); Office of Management and Budget (OMB) Circular A-25, Section 6(c)(2)(b) (recognizing exceptions to the general policy of full cost recovery when conditions exist that justify an exception); see also 22 U.S.C. 1475e (authorizing the Department to retain fees related to Exchange Visitor Program services “to such extent as may be provided in advance in appropriations acts” and expend such fees for “authorized purposes” without specifying the amount at which the fees much be set). Although the costs of providing the J-Waiver service have increased as indicated in the NPRM, the Department has assessed that currently available retained revenue from this fee is sufficient to permit the Department to sustain the J-Waiver service in the near term without raising the fee at this time.

Below are the adjustments to the fee recommendations in the NPRM that the Department will implement in this final rule:

• The application processing fee for non-petition based NIVs (except E category), will be raised from $160 to $185. This represents a 15.6 percent increase over the current fee, but is $60 or 24.5 percent below the original proposal of $245.

• The application processing fee for H, L, O, P, Q, and R category NIVs, will be raised from $190 to $205. This represents a 7.9 percent increase over the current fee, but is $105 or 33.9 percent below the original proposal of $310.

• The processing fee for the BCCs for Mexican citizens age 15 and over will be raised from $160 to $185. This represents a 15.6 percent increase over the current fee, but is $60 or 24.5 percent below the original proposal of $245.

• The fee for E category NIVs will be raised from $205 to $315. This represents a 53.7 percent increase over the current fee, but is $170 or 35 percent below the original proposal of $485.

• The fee for the exchange visitor waiver of two-year residency requirement will be maintained at $120, instead of the proposed $510.

As discussed above, the Department applied the same methodology to calculate the revised fees and the relevant authorities found in the NPRM apply to these revised fee recommendations. This rule also addresses public comments received by the Department on the originally proposed fee recommendations found in the NPRM.

Analysis of Comments

In the 60-day period following publication of the NPRM, the Department received a total of 328 comments, 94 of which were duplicates. The comments are categorized into the following general topics.

Education

The Department received many comments related to the proposed increase from $160 to $245 for non-petition based nonimmigrant visas (except E category), which include all types of student visas. Sixty-one commenters expressed concerns about the impact of the fee increases on international education, including the following sub-topics: 10 comments on how the COVID-19 pandemic affects international students and institutions of higher education in the United States; 11 comments on how the English as a Second Language (ESL) community might be affected; 6 comments on the Biden Administration's policies for attracting international students; and 15 comments on the possibility that an increase of this kind might drive international students to seek educational opportunities in other countries. As discussed above, this final rule implements only a $25 increase for non-petition-based NIV fees, from $160 to $185. The Department believes this modification largely addresses the issues raised by the commenters, which appeared to be driven by financial impact on visa applicants.

Gradual Increase

The Department received 19 comments from commenters who accepted the proposed fee increases but requested that the Department delay the increases to sometime in the future or make them more gradual. The Department's decision to increase the non-petition-based NIV (except E category) fee by only $25 rather than $85 and to increase the NIV fee for H, L, O, P, Q, and R category visas by only $15 rather than $120 for the reasons discussed above addresses the concerns raised by these commenters.

Temporary Work Visas (Agricultural (H-2As) and Non-Agricultural (H-2Bs))

The Department received 80 comments regarding the H-2 visa programs. These comments were in response to the Department's original proposal that would have increased the fee from $190 to $310, and generally asserted that agricultural businesses cannot absorb a 63 percent increase to H-2 visa fees. The comments also asserted that with rising prices across the board (e.g., increases in the Adverse Effect Wage Rate (AEWR)), the fee increase would put them out of business. As discussed in the NPRM, the impact of the proposed fee increases on the overall cost of bringing over an H-2 worker would have been minimal. If implemented, the proposed fee would have raised the total cost by just over one percent, from $10,367 ($10,177 + $190) to $10,487 ($10,177 + $310). See 86 FR 74023. This final rule implements only a $15 increase in petition-based NIV fees, from $190 to $205. Assuming the costs of bringing over an H-2 worker have not increased since the NPRM was issued, the total cost is now increasing by only .15 percent (from $10,367 to $10,382). This is significantly less than originally proposed, which should largely address the concerns of the commenters.

Adverse Effect Wage Rate (AEWR)

One commenter requested that if the fees are increased, then the “AEWR should be removed, frozen, or replaced with a charge that isn't constantly increased.” The AEWR, which is determined by the U.S. Department of Labor's Office of Foreign Labor Certification Administrator for the purpose of preventing the employment of H-2A workers from adversely affecting the wages of U.S. workers similarly employed, see 8 U.S.C. 1188(a)(1)(B), is “[t]he annual weighted average hourly wage for field and livestock workers (combined) in the States or regions as published annually by the U.S. Department of Agriculture (USDA) based on its quarterly wage survey.” 20 CFR 655.103(c). An employer whose Application for Temporary Employment Certification in the H-2A program has been certified by the Department of Labor must offer, advertise in its recruitment, and pay a wage that is at least the highest of the AEWR, a prevailing wage rate, an agreed-upon collective bargaining wage, the Federal minimum wage, or the State minimum wage. 20 CFR 655.120(a). The Department recognizes that an AEWR or other minimum wage under the H-2A program may impose a financial burden on agricultural employers; however, it is a requirement imposed by the Immigration and Naturalization Act, as implemented by the Department of Labor's H-2A regulations, which is outside the scope of this rulemaking.

Tourism

The Department received one comment that specifically discussed the impact the proposed fee increases could have on tourism demand. The NPRM examined the costs associated with tourist visits to the United States and the potential impact of the original proposed fee increase on demand for tourism. Our analysis showed that even with the originally proposed $85 increase, from $160 to $245, the impact on tourism likely would have been minimal.

Due to the revised demand projections, the Department is now implementing only a $25 increase to the fee for non-petition based NIVs (except E category). Assuming the average costs of travel to the United States ($4,834) have not increased since the publication of the NPRM, then the adjustment to the fee will increase the total cost of a trip from $4,994 ($4,834 + $160) (current rate) to $5,019 ($4,834 + $185), which is less than one-half of one percent. Thus, the impact on tourism almost certainly will be negligible.

The commenter also mentioned that by increasing the tourist visa fee, the Department risks increased reciprocity fees imposed by other countries, which will negatively impact Americans who wish to travel internationally. The Department acknowledges this risk but must set MRV fees to recover the costs of providing these services. See 8 U.S.C. 1713(b).

Evidence of Reason for Increase

The Department received six comments requesting additional evidence to help commenters understand the reasons for the increases. As detailed in the NPRM, while costs for non-petition-based nonimmigrant visas (except E category) and the petition-based nonimmigrant visa services have increased modestly but steadily since the last adjustment to these fees in 2012, demand for these visa categories has fluctuated more dramatically from year to year. See 86 FR 74021. Because MRV fees must be set at the cost of providing these services, 8 U.S.C. 1713(b), the unprecedented, significant decrease in demand due to the COVID-19 pandemic had a substantial impact on the fee increases proposed in the NPRM. Subsequently, the Department observed a considerable, unexpected recovery in NIV demand and made the decision to reanalyze the proposed fees in light of this rebound.

The Department cannot be certain why NIV demand has recovered more quickly than expected. The recovery in demand may be attributable to a variety of factors, including the increase in global vaccination rates, relaxation of travel restrictions and reopening of international borders, and gradual resumption of the Department's visa operations at overseas posts. When the initial projected demand for 2021-2024 was calculated, it was uncertain whether effective COVID-19 vaccines would be globally available and what impact vaccination would have on demand for NIVs. The relatively quick proliferation of COVID-19 vaccines worldwide and the corresponding reductions in the risk of serious illness and death due to COVID-19 may have increased individuals' willingness to travel and the easing of restrictions made it increasingly possible to do so. Regardless, because the CoSM assumed a negative outlook for a longer period, the original demand projections ultimately were too low.

The revised fee recommendation for E category NIVs reflects a decrease of $170 from the original proposal, from $205 to $315 rather than $485. As with the other categories of NIVs, the originally proposed fee increase for E NIVs accounted for very low demand for this service during the COVID-19 pandemic. As discussed in the NPRM, however, the proposed increase also reflected an increased level of effort on the part of the adjudicator. The most recent CoSM demonstrated that consular staff spend significantly more time providing this service than was captured previously. See 86 FR 74018, 74022. The fee that will be implemented includes NIV adjudication efforts that were not previously captured in the current fee (as discussed in the NRPM), and accounts for the improved outlook for E visa demand.

Activity-Based Costing Methodology and Calculations

The Department received two comments related to its Activity-Based Costing (ABC) methodology and calculations. One commenter pointed out the “vast majority of the cost of processing visa applications is directly proportional to the number of applications” and that CA should consider fixed costs of services to be minimal in unit cost calculations. The cost of processing visa applications is not directly proportional to the number of applications. A significant portion of costs are fixed, including costs for rent and utilities as well as bureau, directorate, and post management. As discussed above, these costs have increased steadily due primarily to inflation since the last adjustments to these fees. Although the considerable fluctuations in demand due to the COVID-19 pandemic had a greater impact on the proposed fee increases, the rise in actual costs had an impact on the fees as well.

One commenter mentioned that the Department's ABC model should consider visa validity when calculating the fees for services. The Department does not set NIV application processing fees based on the number of years a visa is valid, because the costs associated with visa processing do not vary significantly whether the length of validity is one year or ten years, or whether a visa is for a single entry or multiple entries.

Same Level of Service (Backlog)

The Department received four comments stating that the commenter would gladly pay an increased fee for faster service (i.e., decreased wait times), but did not support fee increases to obtain the same level of service currently provided. The Department understands the concerns regarding visa processing times. The COVID-19 pandemic resulted in profound reductions in the Department's visa processing capacity, and many embassies and consulates were able to provide only limited visa services. As worldwide restrictions due to the COVID-19 pandemic ease, the Department is focused on reducing wait times for all consular services at our embassies and consulates overseas while also protecting the health and safety of our staff and applicants when they come to embassy or consular premises. Although local conditions and restrictions at individual consular posts may continue to fluctuate, embassies and consulates have broad discretion to determine how to prioritize visa appointments among the ranges of visa classes as safely as possible, subject to local conditions and restrictions. The Department sets MRV fees at the cost of providing the service, see 8 U.S.C. 1713(b), and these fees are used to cover the costs of the service, including the materials, office space, equipment, etc. needed to process and produce NIVs.

Domestic Renewals (Visa Reissuance in the U.S. for Certain Visa Holders)

The Department received 75 comments suggesting and requesting that the Department resume domestic visa renewals for individuals who were previously approved to receive certain visa classes (e.g., H-1B, H-4, Green Cards) and previously provided biometrics. These commenters assert that such renewals would eliminate the requirement for these individuals to travel to their home country to renew their visas, where they may need to remain for uncertain periods of time before they can obtain interview appointments at the embassy or consulate.

The State Department provided domestic renewals until the 2002 Enhanced Border Security and Visa Entry Reform Act required that U.S. visas issued after October 26, 2004, include biometric identifiers. This, in turn, required visa holders to renew their visas outside the United States, because domestic fingerprint collection was not feasible at the time. The possibility of relying on previously collected fingerprints would overcome one obstacle to resuming domestic renewal. As part of the Department's ongoing commitment to exploring options to make visa processing more efficient and accessible for all applicants, the Department is assessing numerous logistical challenges that need to be addressed in implementing such an initiative. The Department continues to explore options to make visa processing more efficient and accessible for all applicants.

Conclusion

The Department will adjust application processing fees for NIVs and adult BCC fees in light of the Cost of Service Model's findings that the U.S. Government is not fully recovering the costs of processing applications for several categories of NIVs and the adult BCC. The Department is postponing the fee increase for the J-Waiver fee, which will remain at $120. In accordance with its statutory authorities and consistent with OMB guidance, the Department sets user fees at a level sufficient to recover the cost of providing services that provide special benefits to an identifiable recipient beyond those that accrue to the general public. See 31 U.S.C. 9701; OMB Circular A-25, sec. 6(a)(1), (a)(2)(a); see also 8 U.S.C. 1713(b). For this reason, the Department will adjust the Schedule of Fees.

Regulatory Findings

Administrative Procedure Act

The Department published this rulemaking as a proposed rule and provided 60 days for public comment. This final rule will be effective 60 days after publication, in accordance with 5 U.S.C. 801(a)(3).

Regulatory Flexibility Act

The Department has reviewed this rule and, by approving it, certifies that it will not have a significant economic impact on a substantial number of small entities as defined in 5 U.S.C. 601(6). This rule adjusts the application processing fees for H, L, O, P, Q and R category visas, which will account for approximately eleven percent of the total nonimmigrant visa workload expected in FY2023. Although the issuance of some of these visas is contingent upon approval by DHS of a petition filed by a United States company with DHS, and these companies pay a fee to DHS to cover the processing of the petition, the visa itself is sought and paid for by an individual foreign national overseas who seeks to come to the United States or, in some cases, an employer applying on their behalf. The amount of the petition fees that are paid by small entities to DHS is not impacted by the amount of the visa fees paid by individuals to the Department of State. While small entities may cover or reimburse employees for application processing fees, the exact number of such entities that do so is unknown. Whether or not small entities choose to reimburse the applicant for their employment-based NIV fees, the $15 increase is not likely to have a significant economic impact.

Unfunded Mandates Act of 1995

This rule will not result in the expenditure by state, local, and tribal governments, in the aggregate, or by the private sector, of $100 million or more in any year, and it will not significantly or uniquely affect small governments. Therefore, no actions were deemed necessary under the provisions of the Unfunded Mandates Reform Act of 1995, 2 U.S.C. 1501-1504.

Congressional Review Act

This rule is a major rule as defined by 5 U.S.C. 804(2).

Executive Orders 12866 and 13563

The Department has reviewed this rule to ensure its consistency with the regulatory philosophy and principles set forth in E.O. 12866 and E.O. 13563. OMB has determined that this rule is economically significant under Executive Order 12866.

a. Need for the Regulatory Action

This final rule is necessary in light of the CoSM's findings that costs associated with NIV application processing have increased since the last update to these fees. The Department sets NIV application fees commensurate with the costs of providing these services in accordance with 8 U.S.C. 1713(b) and OMB Circular A-25. The increase in costs therefore justify these adjustments through the rulemaking process.

b. Summary of Changes From the Current Rule

The following table summarizes the impact of this final rule:

Item No. | Proposed fee | Current fee | Change in fee | Percentage increase | Projected annual number of applications ¹ | Estimated change in annual fees collected ² | Change in state retained fees | Change in remittance to treasury
SCHEDULE OF FEES FOR CONSULAR SERVICES
* * * * * * *
NONIMMIGRANT VISA SERVICES
* * * * * * *
21. Nonimmigrant Visa Application and Border Crossing Card Processing Fees (per person)
(a) Non-petition-based nonimmigrant visa (except E category) | $185 | $160 | $25 | 16 | 8,574,624 | $214,365,600 | $214,365,600 | $0
(b) H, L, O, P, Q, and R category nonimmigrant visa | 205 | 190 | 15 | 8 | 1,141,549 | 17,123,235 | 17,123,235 | 0
(c ) E category nonimmigrant visa | 315 | 205 | 110 | 54 | 69,326 | 7,625,860 | 7,625,860 | 0
(e) Border Crossing Card—age 15 and over (10 year validity) | 185 | 160 | 25 | 16 | 1,400,236 | 35,005,900 | 35,005,900 | 0
IMMIGRANT AND SPECIAL VISA SERVICES
* * * * * * *
35. Special Visa Services
(b) Waiver of two-year residency requirement | 120 | 120 | 0 | 0 | N/A | N/A | N/A | 0
Total |  |  |  |  |  | $274,120,595 | $274,120,595 | 0
¹ Application volume based on FY 2023 projected workload. FY 2023 is the year likely year of implementation.
² Change in fee collection is based on FY2023 projected workload × change to fee.

As explained above, the results of the most recent CoSM indicate that the costs of providing nonimmigrant visa services have increased and therefore the current fees are not set at a level sufficient to permit the Department to fully recover the costs of providing these services. The Department relies exclusively on retained revenue from consular fee collections to fund ongoing consular operations. The NIV fees proposed by the Department are set to recover costs necessary to support NIV operations, in accordance with 8 U.S.C. 1713(b) and OMB Circular A-25. If any of these fees are set below costs, the Department's Bureau of Consular Affairs would be operating at a deficit. Such a situation could impact the Department's ability to provide consular services to those who seek to travel to the United States for tourism, education, or work-related reasons, by limiting access to resources needed to adjudicate and produce visas. That consequence, in turn, could have a negative effect on those aspects of the U.S. economy that depends on these visitors and workers.

c. Time Horizon of the Analysis

The Department's CoSM is updated annually, and the Department aims to update the Schedule of Fees biennially unless a significant change in costs warrants an immediate recommendation to amend the Schedule. If the results of the CoSM indicate a change in the cost (increase/decrease) of providing a service, then adjustments to the relevant fees will be made to ensure full cost recovery. Any future changes to the fees, however, will not impact NIV holders during the period of their visa's validity (generally 5-10 years).

d. Regulatory Alternatives

Due to the requirements of 8 U.S.C. 1713(b), there are no alternatives to raising MRV fees. However, as discussed in the preamble, the Department is finalizing lower increases than those proposed in the NPRM due to the rebound in demand for NIVs. As in the NPRM, the Department utilized 10-year average for demand to account for pandemic-related volatility and the fact that demand for NIVs is still in the process of recovering. The fees included in this rule are set at the cost of providing the relevant nonimmigrant visa services and are used to cover the costs of those services, including the materials, offices, equipment, etc. needed to process and produce NIVs.

Therefore, the Department has no alternative to this rulemaking; if the Department does not recover costs for these NIV services, the Department will be operating at a deficit and its consular operations could be impeded.

e. Costs & Benefits of the Rule

The NPRM includes a section titled, “Economic Impact” that demonstrated that the proposed fee increases resulted in minimal increases in the totality of overall costs to both travelers and those seeking work visas. The economic impact of these fee increases is also discussed in the sections of this final rule responding to public comments. For the reasons discussed, the Department does not believe that the increased NIV application processing costs will deter non-U.S. citizens from applying for visas, because these fee increases do not significantly impact the costs of an applicant's travel to the United States.

Although economic impact on individual applicants is minimal, these fee increases will generate revenue that will be used to cover the costs of providing consular services. This revenue will help guarantee the continued functioning of the Department's consular operations, which will provide a direct benefit to U.S. citizens. The fees set through this rulemaking will not change unless and until the results of a future CoSM indicate that they need to be adjusted. As noted above, the Department does not anticipate any change in demand for visas services because of this rulemaking. The cost of an NIV remains minor in comparison with other costs associated with travel, education, or hiring a worker from abroad, as detailed in the NPRM.

Executive Order 12372 and 13132

This regulation will not have substantial direct effects on the states, on the relationship between the national government and the states, or on the distribution of power and responsibilities among the various levels of government. Therefore, in accordance with section 6 of E.O. 13132, it is determined that this rule does not have sufficient federalism implications to require consultations or warrant the preparation of a federalism summary impact statement. The regulations implementing E.O. 12372 regarding intergovernmental consultation on Federal programs and activities do not apply to this regulation.

Executive Order 13175

The Department has determined that this rulemaking will not have tribal implications, will not impose substantial direct compliance costs on Indian tribal governments, and will not preempt tribal law. Accordingly, the requirements of E.O. 13175 do not apply to this rulemaking.

Paperwork Reduction Act

This rule does not impose any new reporting or record-keeping requirements subject to the Paperwork Reduction Act.

List of Subjects in 22 CFR Part 22

Consular services, Fees.

Accordingly, for the reasons stated in the preamble, 22 CFR part 22 is amended as follows:

PART 22—SCHEDULE OF FEES FOR CONSULAR SERVICES—DEPARTMENT OF STATE AND FOREIGN SERVICE

1. The authority citation for part 22 continues to read as follows:

Authority: 8 U.S.C. 1101 note, 1153 note, 1157 note, 1183a note, 1184(c)(12), 1201(c), 1351, 1351 note, 1713, 1714, 1714 note; 10 U.S.C. 2602(c); 22 U.S.C. 214, 214 note, 1475e, 2504(h), 2651a, 4206, 4215, 4219, 6551; 31 U.S.C. 9701; E.O. 10718, 22 FR 4632, 3 CFR, 1954-1958 Comp., p. 382; E.O. 11295, 31 FR 10603, 3 CFR, 1966-1970 Comp., p. 570.

2. In § 22.1, amend the table by revising entries 21(a), (b), (c), and (e) under the heading “Nonimmigrant Visa Services” to read as follows:

§ 22.1 Schedule of fees.

* * * * *

Schedule of Fees for Consular Services
Item No. | Fee
* * * * * * *
Nonimmigrant Visa Services
* * * * * * *
21. Nonimmigrant Visa Application and Border Crossing Card Processing Fees (per person)
(a) Non-petition-based nonimmigrant visa (except E category) | $185
(b) H, L, O, P, Q and R category nonimmigrant visa | 205
(c) E category nonimmigrant visa | 315
* * * * * * *
(e) Border crossing card—age 15 and over (10 year validity) | 185
* * * * * * *

Rena Bitter,
Assistant Secretary, Bureau of Consular Affairs, Department of State.

[FR Doc. 2023-06290 Filed 3-27-23; 8:45 am]

BILLING CODE 4710-06-P